DEPARTMENT OF TRANSPORTATION

Federal Aviation Administration

14 CFR Parts 61 and 91

[Docket No. FAA-2023-1351; Notice No. 23-09a]

RIN 2120-AL61

Public Aircraft Logging of Flight Time, Training in Certain Aircraft Holding Special Airworthiness Certificates, and Flight Instructor Privileges; Correction

AGENCY: Federal Aviation Administration (FAA), Department of Transportation (DOT).

ACTION: Notice of proposed rulemaking (NPRM); Correction.

SUMMARY: On June 23, 2023, the Federal Aviation Administration (FAA) published the notice of proposed rulemaking, Public Aircraft Logging of Flight Time, Training in Certain Aircraft Holding Special Airworthiness Certificates, and Flight Instructor Privileges. In that document, the FAA inadvertently provided an incorrect docket number in the heading. This correction corrects that error.

DATES: This correction is effective July 13, 2023.

FOR FURTHER INFORMATION CONTACT: Jabari Raphael, General Aviation and Commercial Division, Flight Standards Service, Federal Aviation Administration, 800 Independence Avenue SW, Washington, DC 20591; (202) 267-1088; email Jabari.Raphael@faa.gov.

SUPPLEMENTARY INFORMATION:

Correction

In proposed rule FR Doc 2023-12600, beginning on page 41194 in the issue of June 23, 2023, make the following correction to the docket number on page 41194, in the first column, in the header of the document: Docket No. FAA-2023-1351.

Issued in Washington, DC, under the authority of 49 U.S.C. 106(f) on July 3, 2023.
Brandon Roberts,
Executive Director, Office of Rulemaking.

[FR Doc. 2023-14575 Filed 7-12-23; 8:45 am]

BILLING CODE 4910-13-P